ENVIRONMENTAL PROTECTION AGENCY

[ER-FRL-6695-7]

Environmental Impacts Statements; Notice of Availability

Responsible Agency: Office of Federal Activities, General Information (202) 564-7167 or http://www.epa.gov/compliance/nepa/

Weekly receipt of Environmental Impact Statements

Filed 01/28/2008 through 02/01/2008

Pursuant to 40 CFR 1506.9

EIS No. 20080035, Draft EIS, IBR, WA, Yakima River Basin Water Storage Feasibility Study, Create Additional Water Storage, Benton, Yakima, Kittitas Counties, WA, Comment Period Ends: 03/31/2008, Contact: David Kaumheimer 509-575-5848 Ext. 612.

EIS No. 20080036, Final EIS, GSA, CO, Denver Federal Central Site Plan Study, Master Site Plan, Implementation, City of Lakewood, Jefferson County, CO, Wait Period Ends: 03/10/2008, Contact: Lisa D. Morpurgo 303-236-8000 Ext. 5039.

EIS No. 20080037, Draft EIS, AFS, ID, Yakus Creek Project, Proposes Timber Harvest, Watershed Improvement, and Access Management Activities, Lochsa Ranger District, Clearwater National Forest, Idaho County, ID, Comment Period Ends: 03/24/2008, Contact: Craig Trulock 208-926-4274.

EIS No. 20080038, Draft EIS, BLM, WY, West Antelope Coal Lease Application (Federal Coal Lease Application WYW163340), Implementation, Converse and Campbell Counties, WY, Comment Period Ends: 04/08/2008, Contact: Sarah Bucklin 307-261-7587.

EIS No. 20080039, Final EIS, BLM, NV, Kane Springs Valley Groundwater Development Project, To Construct Infrastructure Required to Pump and Convey Groundwater Resources, Right-of-Way Application, Lincoln County Water District, Lincoln County, NV, Wait Period Ends: 03/10/2008, Contact: Penny Wood 775-861-6466.

EIS No. 20080040, Draft EIS, IBR, NV, Folsam Lake State Recreation Area & Folsam Powerhouse State Historic Park, General Plan/Resource Management Plan, Implementation, El Dorado County, NV, Comment Period Ends: 03/24/2008, Contact: Laura Cabollero 916-989-7172.

EIS No. 20080041, Final Supplement, AFS, 00, Southwest Idaho Ecogroup Land and Resource Management Plan, Supplements the Rangeland Resource Section of the 2003 FEIS Concerning Terrestrial Management Indicator Species (MIS), Boise National Forest, Payette National Forest and Sawtooth National Forest, Forest Plan Revision, Implementation, Several Counties, ID; Malhaur County, OR and Box Elder County, UT, Wait Period Ends: 03/10/2008, Contact: Sharon LaBrecque 208-737-3277.

EIS No. 20080042, Draft EIS, AFS, MT, Debaugan Fuels Reduction Project, Proposed Fuels Reduction Activities, Lolo National Forest, Superior Ranger District, Mineral County, MT, Comment Period Ends: 03/24/2008, Contact: Sharon Sweeney 406-822-4233.

EIS No. 20080043, Draft EIS, FTA, HI, Lahaina Small Boat Harbor Ferry Pier Project, To Build a New Interisland Ferry Pier, Maui, HI, Comment Period Ends: 03/24/2008, Contact: Ted Matley 415-744-2737.

Amended Notices

EIS No. 20070526, Draft EIS, AFS, WY, Thunder Basin National Grassland Prairie Dog Management Strategy, Land and Resource Management Plan Amendment #3, Proposes to Implement a Site-Specific Strategy to Manage Black-Trailed Prairie Dogs, Douglas Ranger District, Medicine Bow-Routt National Forests and Thunder Basin National Grassland, Campbell, Converse, Niobrara and Weston Counties, WY, Comment Period Ends: 03/24/2008, Contact: Misty Hays 307-358-4690, Revision of FR Notice Published 12/21/2007: Extending Comment Period from 02/04/2008 to 03/24/2008.

Dated: February 5, 2008.
Robert W. Hargrove,
Director, NEPA Compliance Division, Office of Federal Activities.

[FR Doc. 08-576 Filed 2-7-08; 8:45 am]

BILLING CODE 6560-50-M